DEPARTMENT OF AGRICULTURE

Food Safety and Inspection Service

9 CFR Part 390

[Docket No. FSIS-2005-0028]

Availability of Lists of Retail Consignees During Meat or Poultry Product Recalls

AGENCY: Food Safety and Inspection Service, USDA.

ACTION: Proposed rule; reopening and extension of comment period.

SUMMARY: The Food Safety and Inspection Service (FSIS) is reopening and extending the comment period for the proposed rulemaking “Availability of Lists of Retail Consignees During Meat or Poultry Product Recalls,” which closed on May 8, 2006. This action is based upon requests made by individuals who attended the Agency's April 24, 2006, public meeting to solicit comments on the proposal.

DATES: Comments are due by June 11, 2006.

ADDRESSES: Interested persons may submit comments on this proposed rule. Comments may be submitted by any of the following methods:

• Federal eRulemaking Portal: This Web site provides the ability to type short comments directly into the comment field on this Web page or attach a file for lengthier comments. Go to http://www.regulations.gov and, in the “Search for Open Regu1ations” box, select “Food Safety and Inspection Service” from the agency drop-down menu, and then click on “Submit.” In the Docket ID column, select FDMS Docket Number FSIS-2005-0028 to submit or view public comments and to view supporting and related material available electronically. This docket can be viewed using the “Advanced Search” function in Regulations.gov.

• Mail, including floppy disks or CD-ROM's, and hand” or courier-delivered items: Send to Docket Clerk, U.S. Department of Agriculture, Food Safety and Inspection Service, 300 12th Street, SW, Room 102 Cotton Annex, Washington, DC 20250.

• Electronic mail: FSIS.regulationscomments@fsis. usda.gov.

All submissions received by mail and electronic mail must include the Agency name and docket number FSIS-2005-0028. All comments submitted in response to this notice will be available for public inspection in the FSIS Docket Room at the address listed above between 8:30 am. and 4:30 p.m., Monday through Friday. The comments also will be posted to the regulations.gov Web site and on the Agency's Web site at http://www.fsis.usda.gov/regulations_&_policies/2006_Notices_Index/index.asp.

FOR FURTHER INFORMATION CONTACT: Victoria A. Levine, Program Analyst, Regulations and Petitions Policy Staff, Office of Policy, Program, and Employee Development, Room 112, Cotton Annex, 300 12th Street, SW, Washington, DC 20250-3700; Telephone (202) 720-5627.

SUPPLEMENTARY INFORMATION: On March 7, 2006, FSIS published in the Federal Register a proposed rule titled Availability of Lists of Retail Consignees During Meat or Poultry Product Recalls (71 FR 11326). FSIS proposed to amend the Federal meat and poultry products inspection regulations to provide that the Agency will make available to the public lists of the retail consignees of meat and poultry products that have been voluntarily recalled by a Federally inspected meat or poultry products establishment if product has been distributed to the retail level. In the preamble to the proposed rule, FSIS indicated that it would hold a public meeting to solicit comments on the issues raised in the proposal. The public meeting was held on April 24, 2006.

At the public meeting and in oral comments before the meeting and written requests after it, numerous interested persons requested that the comment period on the proposal be extended until 30 days after the transcript of the public meeting is publicly available. The requests stressed the usefulness of having the transcript available in formulating these written comments.

FSIS is reopening the comment period for an additional 30 days as the transcript of the April 24th public meeting is now posted on the FSIS Web site. These additional 30 days will provide time for interested persons to fully assess the information presented at the public meeting and to make written comments based upon their assessments. Informed comments should enhance the quality of the comments and the results of this rulemaking.

Additional Public Notification

Public awareness of all segments of rulemaking and policy development is important. Consequently, in an effort to ensure that the public and in particular minorities, women, and persons with disabilities, are aware of this proposal, FSIS will announce it on-line through the FSIS Web page located at http://www.fsis.usda.gov/regulations_&_policies/2006_Notices_Index/index.asp.

The Regulations.gov Web site is the central online rulemaking portal of the United States government. It is being offered as a public service to increase participation in the Federal government's regulatory activities. FSIS participates in Regulations.gov and will accept comments on documents published on the site. The site allows visitors to search by keyword or Department or Agency for rulemakings that allow for public comment. Each entry provides a quick link to a comment form so that visitors can type in their comments and submit them to FSIS. The Web site is located at ­ http://www.regulations.gov.

FSIS also will make copies of this Federal Register publication available through the FSIS Constituent Update, which is used to provide information regarding FSIS policies, procedures, regulations, Federal Register notices, FSIS public meetings, recalls, and other types of information that could affect or would be of interest to our constituents and stakeholders. The update is communicated via Listserv, a free e-mail subscription service consisting of industry, trade, and farm groups, consumer interest groups, allied health professionals, scientific professionals, and other individuals who have requested to be included. The update also is available on the FSIS Web page. Through Listserv and the Web page, FSIS is able to provide information to a much broader, more diverse audience.

In addition, FSIS offers an email subscription service which provides automatic and customized access to selected food safety news and information. This service is available at http://www.fsis.usda.gov/news_and_events/email_subscription/. Options range from recalls to export information to regulations, directives and notices. Customers can add or delete subscriptions themselves and have the option to password protect their account.

Done in Washington, DC, May 8, 2006.
Barbara J. Masters,
Administrator.

[FR Doc. 06-4394 Filed 5-8-06; 12 pm]

BILLING CODE 3410-DM-P